NATIONAL SCIENCE FOUNDATION

Agency Information Collection Activities: Comment Request; NSF Evaluation of Anti-Harassment Term and Condition

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Comments: As required by 5 CFR 1320.8(d), comments on the information collection activities as part of this study were solicited through the publication of a 60-Day Notice in the Federal Register on November 29, 2022, at 87 FR 73337. We received one comment from the Federation of American Societies for Experimental Biology (dated January 30, 2023), which was supportive of this information collection. NSF is proceeding with the request to OMB.

Title of Collection: NSF Evaluation of Anti-Harassment Term and Condition.

OMB Control No.: 3145-New.

Abstract: The purpose of the National Science Foundation's (NSF) Office of Equity and Civil Rights (OECR) Awardee Survey Form is to collect awardee feedback and input on NSF's awardee term and condition that requires NSF to be notified: (1) of any findings/determinations regarding the PI or co-PI that demonstrate a violation of awardee codes of conduct, policies, regulations or statutes relating to sexual harassment, other forms of harassment, or sexual assault; or (2) if the awardee places the PI, or co-PI on administrative leave or imposes an administrative action relating to a finding or investigation of a violation of awardee policies, codes of conduct, statutes or regulations relating to sexual harassment, other forms of harassment, or sexual assault. This survey will assist NSF OECR in assessing how the term and condition has been implemented at awardee organizations and whether improvements or adjustments to the term and condition are either necessary or appropriate to maximize its efficacy and ease of use. This survey will allow us to reach out directly to NSF awardees, to include Authorized Organizational Representatives, Title IX coordinators and researchers, to better understand their respective experiences with the term and condition and to gather their comments for adjustments or enhancements to it.

Respondents: Representatives from NSF Awardee Institutions.

Estimated Number of Annual Respondents: 100.

Burden on the Public: Two methods of information collection will be used—interviews and a survey. Interviews will be conducted with no more than 70 participants, and the estimated time to complete the interview is 45 minutes based on the study team's experience with other similar studies. The total burden for the interviews is 52.5 hours.

Survey responses will be requested from approximately 2,000, with an estimated response rate of 44%. The estimated time to complete the survey is 15 minutes, based on the study team's experience with other similar studies. The total burden for the survey collection is 220 hours.

Dated: March 2, 2023.
Suzanne H. Plimpton,
Reports Clearance Officer, National Science Foundation.

[FR Doc. 2023-04659 Filed 3-6-23; 8:45 am]

BILLING CODE 7555-01-P